DEPARTMENT OF THE TREASURY

Internal Revenue Service

Tax Counseling for the Elderly (TCE) Program Availability of Application Packages; Correction

AGENCY: Internal Revenue Service (IRS), Treasury.

ACTION: Correction to notice.

SUMMARY: This document contains a correction to a notice for the 2008 Tax Counseling for the Elderly (TCE) Program that was published in the Federal Register on Friday, June 1, 2007 (72 FR 105) providing notice of the availability.

FOR FURTHER INFORMATION CONTACT: Mrs. Lynn Tyler, (202) 283-0189 (not a toll-free number).

SUPPLEMENTARY INFORMATION:

Background

The notice that is the subject of the correction is contained in Section 163 of the Revenue Act of 1978, Public Law 95-600, (92 Stat. 12810), November 6, 1978.

Need for Correction

As published, the notice for the 2008 Tax Counseling for the Elderly (TCE) Program contains an error that may prove to be misleading and is in need of clarification.

Correction of Publication

Accordingly, the publication of the notice for the 2008 Tax Counseling for the Elderly (TCE) Program, which was the subject of FR Doc. E7-10173, is corrected as follows:

On page 30667, column 1, in the preamble, under the caption “Summary:”, the language “This document provides notice of the availability of Application Packages for the 2007 Tax Counseling for the Elderly (TCE) Program.”, is corrected to read “This document provides notice of the availability of Application Packages for the 2008 Tax Counseling for the Elderly (TCE) Program.”

LaNita Van Dyke,
Chief, Publications and Regulations Branch, Legal Processing Division, Associate Chief Counsel (Procedure and Administration).

[FR Doc. E7-11435 Filed 6-13-07; 8:45 am]

BILLING CODE 4830-01-P